DEPARTMENT OF STATE

[Public Notice: 9408]

U.S. Department of State Advisory Committee on Private International Law (ACPIL): Public Meeting on Family Law

The Office of the Assistant Legal Adviser for Private International Law, Department of State, gives notice of a public meeting to discuss an upcoming meeting at the Hague Conference on Private International Law (“Hague Conference”) on the topic of international parentage and surrogacy. The public meeting will take place on Tuesday, February 9, 2016 from 1 p.m. until 4 p.m. EST. This is not a meeting of the full Advisory Committee.

In March 2015, the Council on General Affairs and Policy of the Hague Conference decided that an Experts' Group should be convened to explore the feasibility of advancing work on private international law issues surrounding the status of children, including issues arising from international surrogacy arrangements. The first meeting of the Experts' Group will be held February 15-18, 2016, in The Hague.

The purpose of the public meeting is to obtain the views of concerned stakeholders on matters that might be addressed at the upcoming Experts' Group meeting. Those who cannot attend but wish to comment are welcome to do so by email to Michael Coffee at coffeems@state.gov.

Time and Place: The meeting will take place from 1 p.m. until 4 p.m. EST in Room 9.04, State Department Annex 17, 600 19th Street NW., Washington, DC 20522. Participants should plan to arrive at the North Entrance by 12:40 p.m. for visitor screening. If you are unable to attend the public meeting and would like to participate from a remote location, teleconferencing will be available.

Public Participation: This meeting is open to the public, subject to the capacity of the meeting room. Access to the building is strictly controlled. For pre-clearance purposes, those planning to attend should email pil@state.gov providing full name, address, date of birth, citizenship, driver's license or passport number, and email address. This information will greatly facilitate entry into the building. A member of the public needing reasonable accommodation should email pil@state.gov not later than February 2, 2016. Requests made after that date will be considered, but might not be able to be fulfilled. If you would like to participate by telephone, please email pil@state.gov to obtain the call-in number and other information.

Data from the public is requested pursuant to Public Law 99-399 (Omnibus Diplomatic Security and Antiterrorism Act of 1986), as amended; Public Law 107-56 (USA PATRIOT Act); and Executive Order 13356. The purpose of the collection is to validate the identity of individuals who enter Department facilities.

The data will be entered into the Visitor Access Control System (VACS-D) database. Please see the Security Records System of Records Notice (State-36) at https://foia.state.gov/_docs/SORN/State-36.pdf for additional information.

Dated: January 11, 2016.
Michael S. Coffee,
Attorney-Adviser, Office of Private International Law, Office of the Legal Adviser, U.S. Department of State.

[FR Doc. 2016-01029 Filed 1-19-16; 8:45 am]

BILLING CODE 4710-08-P